DEPARTMENT OF THE INTERIOR

National Park Service

Notice of Inventory Completion for Native American Human Remains and Associated Funerary Objects in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.9, of the completion of an inventory of human remains and associated funerary objects in the possession of the Peabody Museum of Archaeology and Ethnology, Harvard University, Cambridge, MA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the Peabody Museum of Archaeology and Ethnology professional staff in consultation with representatives of the Oglala Sioux Tribe of the Pine Ridge Reservation, South Dakota.

In 1879, human remains representing one individual were donated to the Peabody Museum of Archaeology and Ethnology by Alexander Agassiz. No known individual was identified. No associated funerary objects are present.

Museum records indicate that these human remains were collected by Brevet Colonel Coppinger at an unknown date. Peabody Museum of Archaeology and Ethnology accession records indicate that the remains are those of a “Siouan, Ogallaga” individual from the “Plains region.” The specific site from which the remains were collected is unknown. The attribution of such a specific cultural affiliation to the human remains indicates that, at the time that the remains were acquired, the collector probably had direct knowledge of the individual's cultural affiliation. This information indicates that the remains probably date to the historic period and are the remains of an Oglala Sioux individual. The Oglala Sioux are represented by the present-day Oglala Sioux Tribe of the Pine Ridge Reservation, South Dakota.

Based on the above-mentioned information, officials of the Peabody Museum of Archaeology and Ethnology have determined that, pursuant to 43 CFR 10.2 (d)(1), the human remains listed above represent the physical remains of one individual of Native American ancestry. Officials of the Peabody Museum of Archaeology and Ethnology also have determined that, pursuant to 43 CFR 10.2 (e), there is a relationship of shared group identity that can be reasonably traced between these Native American human remains and the Oglala Sioux Tribe of the Pine Ridge Reservation, South Dakota.

This notice has been sent to officials of the Oglala Sioux Tribe of the Pine Ridge Reservation, South Dakota. Representatives of any other Indian tribe that believes itself to be culturally affiliated with these human remains should contact Barbara Isaac, Repatriation Coordinator, Peabody Museum of Archaeology and Ethnology, Harvard University, 11 Divinity Avenue, Cambridge, MA 02138, telephone (617) 495-2254, before May 3, 2001. Repatriation of the human remains to the Oglala Sioux Tribe of the Pine Ridge Reservation, South Dakota may begin after that date if no additional claimants come forward.

Dated: March 21, 2001.
John Robbins,
Assistant Director, Cultural Resources Stewardship and Partnerships.

[FR Doc. 01-8172 Filed 4-2-01; 8:45 am]

BILLING CODE 4310-70-P